DEPARTMENT OF COMMERCE

International Trade Administration

[A-533-808]

Stainless Steel Wire Rods from India: Final Results of Antidumping Duty Administrative Review and Notice of Rescission of Antidumping Duty Administrative Review in Part

AGENCY: Import Administration, International Trade Administration, Department of Commerce.

SUMMARY: On September 12, 2007, the Department of Commerce published the preliminary results of an administrative review of the antidumping duty order on stainless steel wire rods from India and a notice of intent to rescind the antidumping duty administrative review in part. The administrative review currently covers one manufacturer/exporter, Mukand Ltd., and the review period is December 1, 2005, through November 30, 2006. We stated our intent to rescind the review with respect to the manufacturer/exporter Sunflag Iron & Steel Co., Ltd., in our preliminary results.

We have received no comments from interested parties on our preliminary results. We have made no changes to our calculations for the final results of review and, accordingly, have found that Mukand Ltd. made sales at less than normal value in the U.S. market. The final weighted-average dumping margin for this company is listed below in the section entitled “Final Results of the Review.” In addition, we have rescinded the administrative review of sales of stainless steel wire rods made by Sunflag Iron & Steel Co., Ltd.

EFFECTIVE DATE: (December 4, 2007.

FOR FURTHER INFORMATION CONTACT: Edythe Artman, AD/CVD Enforcement, Office 5, Import Administration, International Trade Administration, U.S. Department of Commerce, 14th Street and Constitution Avenue, NW, Washington, DC 20230, telephone: (202) 482-3931.

SUPPLEMENTARY INFORMATION:

Background

On September 12, 2007, the Department of Commerce (the Department) published the preliminary results of the administrative review of the antidumping duty order on stainless steel wire rods from India and a notice of intent to rescind the antidumping duty administrative review in part. See Stainless Steel Wire Rods from India: Preliminary Results of Antidumping Duty Administrative Review and Notice of Intent to Rescind Antidumping Duty Administrative Review in Part, 72 FR 52079 (September 12, 2007). We invited interested parties to comment on the preliminary results but received no comments from the parties.

Rescission of Review in Part

In the preliminary results of review, we stated our intent to rescind the administrative review with respect to sales of stainless steel wire rods (wire rods) made by Sunflag Iron & Steel Co., Ltd. (Sunflag), during the period of review because we had initiated a new-shipper review of these sales. See Stainless Steel Wire Rod from India: Notice of Initiation of Antidumping Duty New-Shipper Review, 72 FR 13088 (March 20, 2007). We thus preliminarily determined that it was appropriate to rescind the administrative review with respect to Sunflag pursuant to 19 CFR 351.214(j), which permits a rescission when there are multiple reviews of the sales of a company.

We received no comments from interested parties concerning our intent to rescind. Because Sunflag's sales are subject to a new-shipper review, we are rescinding the administrative review with respect to Sunflag pursuant to 19 CFR 351.214(j).

Scope of the Order

The merchandise under review is wire rods, which are hot-rolled or hot-rolled annealed and/or pickled rounds, squares, octagons, hexagons or other shapes, in coils. Wire rods are made of alloy steels containing, by weight, 1.2 percent or less of carbon and 10.5 percent or more of chromium, with or without other elements. These products are only manufactured by hot-rolling and are normally sold in coiled form, and are of solid cross section. The majority of wire rods sold in the United States are round in cross-section shape, annealed, and pickled. The most common size is 5.5 millimeters in diameter.

The wire rods subject to this order are currently classifiable under subheadings 7221.00.0005, 7221.00.0015, 7221.00.0030, 7221.00.0045, and 7221.00.0075 of the Harmonized Tariff Schedule of the United States (HTSUS). Although the HTSUS subheadings are provided for convenience and customs purposes, the written description of the merchandise subject to the order is dispositive of whether the merchandise is covered by the order.

No Changes Since the Preliminary Results

Because the Department received no comments on the preliminary results of review and it finds no other basis for changes in these results, it has made no changes in the final results from the preliminary results of review. Accordingly, we find that Mukand Ltd. (Mukand) made sales at less than normal value in the U.S. market during the period of review.

Final Results of the Review

We determine that the weighted-average dumping margin on Mukand's sales of stainless steel wire rods from India for the period December 1, 2005, through November 30, 2006, is 11.56 percent.

Assessment Rates

The Department will determine, and U.S. Customs and Border Protection (CBP) shall assess, antidumping duties on all appropriate entries. We intend to issue appropriate assessment instructions directly to CBP 15 days after publication of these final results of review. In accordance with 19 CFR 351.212(b)(1), we have calculated a customer/importer-specific, per-unit amount for entries of subject merchandise during the period of review.

The Department clarified its “automatic assessment” regulation on May 6, 2003. See Antidumping and Countervailing Duty Proceedings: Assessment of Antidumping Duties, 68 FR 23954 (May 6, 2003). This clarification applies to period-of-review entries of subject merchandise produced by Mukand where it did not know that its merchandise was destined for the United States. In such instances, we will instruct CBP to liquidate unreviewed entries at the all-others rate if there is no rate for the intermediate company(ies) involved in the transaction.

Cash-Deposit Requirements

The following deposit requirements will be effective upon publication of this notice of final results of administrative review for all shipments of the subject merchandise entered, or withdrawn from warehouse, for consumption on or after the date of publication, consistent with section 751(a)(1) of the Act: (1) the cash-deposit rate for Mukand will be 11.56 percent; (2) for previously reviewed or investigated companies not listed above, the cash-deposit rate will continue to be the company-specific rate published for the most recent period; (3) if the exporter is not a firm covered in this review, a prior review, or the original less-than-fair-value investigation but the manufacturer is, the cash-deposit rate will be the rate established for the most recent period for the manufacturer of the merchandise; and (4) the cash-deposit rate for all other manufacturers or exporters will continue to be the “all others” rate of 48.80 percent, which is the “all others” rate established in the less-than-fair-value investigation. See Final Determination of Sales at Less Than Fair Value: Certain Stainless Steel Wire Rods from India, 58 FR 54110, (October 20, 1993). These cash-deposit rates shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to an administrative protective order of their responsibility concerning the disposition of proprietary information disclosed under such an order in accordance with 19 CFR 351.305(a)(3). Timely notification of the return or destruction of administrative-protective-order materials or conversion to judicial protective order is hereby requested. Failure to comply with the regulations and the terms of an administrative protective order is a sanctionable violation.

We are issuing and publishing this notice in accordance with sections 751(a)(1) and 777(i)(1) of the Act.

Dated: November 27, 2007.
David M. Spooner,
Assistant Secretary for Import Administration.

[FR Doc. E7-23491 Filed 12-3-07; 8:45 am]

BILLING CODE 3510-DS-S